DEPARTMENT OF COMMERCE

Foreign-Trade Zones Board

[Docket 33-2000]

Foreign-Trade Zone 7—Mayaguez, Puerto Rico: Application for Subzone, Caribbean Petroleum Corporation/Caribbean Petroleum Refining, Inc. (Oil Refinery Complex), Bayamon, Puerto Rico

An application has been submitted to the Foreign-Trade Zones Board (the Board) by the Puerto Rico Industrial Development Company, grantee of FTZ 7, requesting special-purpose subzone status for the oil refinery complex of Caribbean Petroleum Corporation/Caribbean Petroleum Refining, Inc. (CPC/CPR), located in Bayamon, Puerto Rico. The application was submitted pursuant to the provisions of the Foreign-Trade Zones Act, as amended (19 U.S.C. 81a-81u), and the regulations of the Board (15 CFR part 400). It was formally filed on July 6, 2000.

The refinery complex (48,000 BPD capacity, 77 storage tanks with over 2 million barrels of capacity) is located on State Road 28, Km. 2, Bayamon, Puerto Rico. The refinery (173.81 acres, 155 employees) is used to produce fuels and petrochemical products, including gasoline, jet fuel, distillates, residual fuels, naphthas, motor fuel blendstocks, liquid petroleum gases, butane, kerosene, and propane. Refinery by-products include petroleum coke, asphalt and sulfur. All of the crude oil (85 percent of inputs), and some naphthas, and gas oils are sourced from abroad.

Zone procedures would exempt the refinery from Customs duty payments of the foreign products used in its exports. On domestic sales, the company would be able to choose the Customs duty rates that apply to certain petrochemical feedstocks and refinery by-products (duty-free) by admitting incoming foreign crude oil in non-privileged foreign status. The duty rates on inputs range from 5.25 cents/barrel to 10.5 cents/barrel. The application indicates that the savings from zone procedures would help improve the refinery's international competitiveness.

In accordance with the Board's regulations, a member of the FTZ Staff has been designated examiner to investigate the application and report to the Board.

Public comment is invited from interested parties. Submissions (original and 3 copies) shall be addressed to the Board's Executive Secretary at the address below. The closing period for their receipt is September 11, 2000. Rebuttal comments in response to material submitted during the foregoing period may be submitted during the subsequent 15-day period to September 26, 2000.

A copy of the application and the accompanying exhibits will be available for public inspection at each of the following locations:

U.S. Department of Commerce, Export Assistance Center, 525 F.D. Roosevelt Ave., Suite 905, La Torre de Plaxa, San Juan, PR 00918

Office of the Executive Secretary, Foreign-Trade Zones Board, Room 4008, U.S. Department of Commerce, 14th and Pennsylvania Avenue, NW., Washington, DC 20230

Dated: July 6, 2000.
Dennis Puccinelli,
Executive Secretary.

[FR Doc. 00-17763 Filed 7-12-00; 8:45 am]

BILLING CODE 3510-DS-M